DEPARTMENT OF DEFENSE

GENERAL SERVICES ADMINISTRATION

NATIONAL AERONAUTICS AND SPACE ADMINISTRATION

48 CFR Parts 22, 25, and 52

[FAC 2005-24; FAR Case 2007-016; Item III]

[Docket 2008-0001; Sequence 3]

RIN 9000-AK89

Federal Acquisition Regulation; FAR Case 2007-016, Trade Agreements—New Thresholds

AGENCIES: Department of Defense (DoD), General Services Administration (GSA), and National Aeronautics and Space Administration (NASA).

ACTION: Interim rule with request for comments.

SUMMARY: The Civilian Agency Acquisition Council and the Defense Acquisition Regulations Council (the Councils) have agreed to issue an interim rule amending the Federal Acquisition Regulation (FAR) to incorporate increased thresholds for application of the World Trade Organization Government Procurement Agreement and the Free Trade Agreements, as determined by the United States Trade Representative (USTR).

DATES: Effective Date: February 28, 2008.

Comment Date: Interested parties should submit written comments to the FAR Secretariat on or before April 28, 2008 to be considered in the formulation of a final rule.

ADDRESSES: Submit comments identified by FAC 2005-24, FAR case 2007-016, by any of the following methods:

• Regulations.gov: http://www.regulations.gov. Submit comments via the Federal eRulemaking portal by inputting “FAR Case 2007-016” under the heading “Comment or Submission”. Select the link “Send a Comment or Submission” that corresponds with FAR Case 2007-016. Follow the instructions provided to complete the “Public Comment and Submission Form”. Please include your name, company name (if any), and “FAR Case 2007-016” on your attached document.

• Fax: 202-501-4067.

• Mail: General Services Administration, Regulatory Secretariat (VPR), 1800 F Street, NW., Room 4035, ATTN: Diedra Wingate, Washington, DC 20405.

Instructions: Please submit comments only and cite FAC 2005-24, FAR case 2007-016, in all correspondence related to this case. All comments received will be posted without change to http://www.regulations.gov. Please include your name and company name (if any) inside the document.

FOR FURTHER INFORMATION CONTACT: For clarification of content, contact Ms. Meredith Murphy, Procurement Analyst, at (202) 208-6925. For information pertaining to status or publication schedules, contact the FAR Secretariat, Room 4035, GS Building, Washington, DC 20405, (202) 501-4755. Please cite FAC 2005-24, FAR Case 2007-016.

SUPPLEMENTARY INFORMATION:

A. Background

Every two years, the trade agreements thresholds are escalated according to a pre-determined formula set forth in the agreements. The USTR, in the Federal Register, at 72 FR 71166, December 14, 2007 and 72 FR 73904, December 28, 2007, specified the following new thresholds:

Trade agreement | Supply contract (equal to or exceeding) | Service contract (equal to or exceeding) | Construction contract (equal to or exceeding)
WTO GPA FTAs | $194,000 | $194,000 | $7,443,000
Australia FTA | 67,826 | 67,826 | 7,443,000
Bahrain FTA | 194,000 | 194,000 | 8,817,449
CAFTA-DR (El Salvador, Dominican Republic, Guatemala, Honduras, and Nicaragua) | 67,826 | 67,826 | 7,443,000
Chile FTA | 67,826 | 67,826 | 7,443,000
Morocco FTA | 194,000 | 194,000 | 7,443,000
NAFTA:
—Canada | 25,000 | 67,826 | 8,817,449
—Mexico | 67,826 | 67,826 | 8,817,449
Singapore FTA | 67,826 | 67,826 | 7,443,000
Israeli Trade Act | 50,000

This is not a significant regulatory action and, therefore, was not subject to review under Section 6(b) of Executive Order 12866, Regulatory Planning and Review, dated September 30, 1993. This rule is not a major rule under 5 U.S.C. 804.

B. Regulatory Flexibility Act

This interim rule is not expected to have a significant economic impact on a substantial number of small entities within the meaning of the Regulatory Flexibility Act, 5 U.S.C. 601, et seq. The dollar threshold changes are designed to keep pace with inflation and thus maintain the status quo. Therefore, we have not performed an Initial Regulatory Flexibility Analysis. We invite comments from small business concerns and other interested parties on this issue. The Councils will also consider comments from small entities concerning the affected FAR subparts 22, 25, and 52 in accordance with 5 U.S.C. 610. Interested parties should submit such comments separately and should cite 5 U.S.C. 601, et seq. (FAR Case 2007-016), in correspondence.

C. Paperwork Reduction Act

The Paperwork Reduction Act does apply, because the interim rule affects the prescriptions for use of the certifications at 52.225-4 (OMB Control 9000-0130), 52.225-6 (OMB Control 9000-0025), and the clauses at 52.225-9 and 52.225-11 (OMB Control 9000-0141), which contain information collection requirements approved under the specified OMB control numbers by the Office of Management and Budget under 44 U.S.C. 3501, et seq. However, there is no impact on the estimated burden hours, because the threshold changes are in line with inflation and maintain the status quo.

D. Determination To Issue an Interim Rule

A determination has been made under the authority of the Secretary of Defense, the Administrator of General Services, and the Administrator of the National Aeronautics and Space Administration, that urgent and compelling reasons exist to promulgate this interim rule without prior opportunity for public comment. This interim rule incorporates increased dollar thresholds for application of the World Trade Organization Government Procurement Agreement and the Free Trade Agreements, as determined by the USTR. This action is necessary because the new thresholds are scheduled to go into effect January 1, 2008. However, pursuant to Public Law 98-577 and FAR 1.501, the Councils will consider public comments received in response to this interim rule in the formation of the final rule.

List of Subjects in 48 CFR Parts 22, 25, and 52

Government procurement.

Dated: February 19, 2008.
Al Matera,
Director, Office of Acquisition Policy.

Therefore, DoD, GSA, and NASA amend 48 CFR parts 22, 25, and 52 as set forth below:

1. The authority citation for 48 CFR parts 22, 25, and 52 continues to read as follows:

Authority: 40 U.S.C. 121(c); 10 U.S.C. chapter 137; and 42 U.S.C. 2473(c).

PART 22—APPLICATION OF LABOR LAWS TO GOVERNMENT ACQUISITIONS

22.1503 [Amended]

2. Amend section 22.1503 by:

a. Removing from paragraph (b)(3) “$64,786” and adding “$67,826” in its place; and

b. Removing from paragraph (b)(4) “$193,000” and adding “$194,000” in its place.

PART 25—FOREIGN ACQUISITION

25.202 [Amended]

3. Amend section 25.202 in paragraph (c) by removing “$7,407,000” and adding “$7,443,000” in its place.

4. Amend section 25.402 by revising the table that follows paragraph (b) to read as follows:

25.402 General.

* * * * *

(b) * * *

Trade Agreement | Supply contract (equal to or exceeding) | Service contract (equal to or exceeding) | Construction contract (equal to or exceeding)
WTO GPA FTAs | $194,000 | $194,000 | $7,443,000
Australia FTA | 67,826 | 67,826 | 7,443,000
Bahrain FTA | 194,000 | 194,000 | 8,817,449
CAFTA-DR (El Salvador, Dominican Republic, Guatemala, Honduras, and Nicaragua) | 67,826 | 67,826 | 7,443,000
Chile FTA | 194,000 | 194,000 | 7,443,000
Morocco FTA | 25,000 | 67,826 | 8,817,449
NAFTA:
—Canada | 67,826 | 67,826 | 8,817,449
—Mexico | 67,826 | 67,826 | 7,443,000
Singapore FTA | 50,000 |  |
Israeli Trade Act

25.1101 [Amended]

5. Amend section 25.1101 by:

a. Removing from paragraph (b)(1)(i)(A) “$193,000” and adding “$194,000” in its place;

b. Removing from paragraphs (b)(1)(iii) and (b)(2)(iii) “$64,786” and adding “$67,826” in its place; and

c. Removing from paragraphs (c)(1) and (d) “$193,000” and adding “$194,000” in its place.

25.1102 [Amended]

6. Amend section 25.1102 by:

a. Removing from paragraphs (a) and (c) “$7,407,000” and adding “$7,443,000” in its place; and

b. Removing from paragraphs (c)(3) and (d)(3) “$7,407,000” and “$8,422,165” and adding “7,443,000” and “$8,817,449”, respectively, in its place.

PART 52—SOLICITATION PROVISIONS AND CONTRACT CLAUSES

7. Amend section 52.212-5 by revising the date of the clause and paragraph (b)(17) to read as follows:

52.212-5 Contract Terms and Conditions Required to Implement Statutes or Executive Orders—Commercial Items.

* * * * *

CONTRACT TERMS AND CONDITIONS REQUIRED TO IMPLEMENT STATUTES OR EXECUTIVE ORDERS—COMMERCIAL ITEMS (FEB 2008)

* * * * *

(b) * * *

(17) 52.222-19, Child Labor—Cooperation with Authorities and Remedies (FEB 2008) (E.O. 13126).

* * * * *

8. Amend section 52.213-4 by revising the date of the clause and the first sentence in paragraph (b)(1)(i) to read as follows:

52.213-4 Terms and Conditions—Simplified Acquisitions (Other Than Commercial Items).

* * * * *

TERMS AND CONDITIONS—SIMPLIFIED ACQUISITIONS (OTHER THAN COMMERCIAL ITEMS) (FEB 2008)

* * * * *

(b) * * *

(1) * * *

(i) 52.222-19, Child Labor—Cooperation with Authorities and Remedies (FEB 2008) (E.O. 13126).

* * * * *

9. Amend section 52.222-19 by:

a. Revising the date of the clause;

b. Removing from paragraph (a)(3) “$64,786” and adding “$67,826” in its place; and

c. Removing from paragraph (a)(4) “$193,000” and adding “$194,000” in its place.

The revised text reads as follows:

52.222-19 Child Labor—Cooperation with Authorities and Remedies.

* * * * *

CHILD LABOR—COOPERATION WITH AUTHORITIES AND REMEDIES (FEB 2008)

* * * * *

[FR Doc. E8-3390 Filed 2-27-08; 8:45 am]

BILLING CODE 6820-EP-P